GENERAL SERVICES ADMINISTRATION

[FMR Bulletin B-2]

Motor Vehicle Management

This notice contains GSA Bulletin FMR B-2 which addresses the use of hand-held wireless phones while driving motor vehicles owned or leased by the Federal government. The text of the bulletin follows:

To: Heads of Federal Agencies.

Subject: Use of Hand-held Wireless Phones while Driving Motor Vehicles Owned or Leased by the Federal Government.

1. What Is the Purpose of This Bulletin?

This bulletin provides guidance to Federal agencies concerning the use of hand-held wireless phones while driving motor vehicles owned or leased by the Federal government.

2. What Is the Effective Date of This Bulletin?

This bulletin is effective March 1, 2002.

3. When Does This Bulletin Expire?

This bulletin will remain in effect until specifically cancelled.

4. What Is the Background?

a. Over 110 million people use wireless phones in the United States. A recent National Highway Traffic Safety Administration (NHTSA) survey found that 54 percent of motor vehicle drivers in the United States usually have a wireless phone in their vehicle. Federal and State policymakers have been weighing the benefits of wireless phone use in vehicles against the growing evidence of their potential to increase driver distraction and the risks to safety. The recent ban of hand-held wireless phones while driving in New York State and pending legislation in at least 27 other states has received significant publicity in 2001. In addition, 23 countries now restrict or prohibit wireless phones in motor vehicles.

b. It is appropriate that the Federal government assume a leadership role in promoting the safe use of wireless telephones by its employees when they are engaged in official Government business. Accordingly, Federal agencies should address the issue of wireless phone use in their internal policies. Additionally, many agencies have requested guidance from the General Services Administration's Office of Governmentwide Policy (OGP), Federal Vehicle Policy Division on wireless phone use in government owned and leased vehicles.

5. What Is the Recommended Policy We Should Follow When Issuing Guidance on the Use of Wireless Phones While Driving Motor Vehicles Owned or Leased by the Federal Government?

Federal agencies should:

a. Discourage the use of hand-held wireless phones by a driver while operating motor vehicles owned or leased by the Federal government.

b. Provide a portable hands-free accessory and/or a hands-free car kit for government owned wireless phones.

c. Educate employees on driving safely while using hands-free wireless phones. See Attachment A for “Cellular Phone Driving Tips” published by the National Highway Traffic Safety Administration (NHTSA).

6. Are Federal Employees Exempt From Local or State Laws Prohibiting or Limiting the Use of Wireless Phones While Driving?

Generally, Federal employees are not exempt from state and local laws governing operation of a motor vehicle. If adhering to state and local laws would impede your agency's mission, consult your General Counsel for advice.

7. Could Federal Agencies Be Held Liable for Injuries or Damages Caused by Employees Who Use Wireless Phones While Driving Motor Vehicles Owned or Leased by the Federal Government?

Federal agencies should be aware of the potential for increased liability from accidents that occur if directly caused by the use of wireless phones while driving motor vehicles owned or leased by the Federal government.

8. What Future Actions Should We Expect?

NHTSA has over a dozen new studies planned during the next two years regarding driver distractions such as wireless phone use. As these reports are published, the General Services Administration's Federal Vehicle Policy Division will keep agencies abreast of the current research and recommendations on whether wireless phones, or any other device, should be used while driving.

9. Who Should We Contact for Further Information and/or To Direct Comments to on the Issue of Limiting the Use of Wireless Phones While Driving Motor Vehicles Owned or Leased by the Federal Government?

General Services Administration, Office of Governmentwide Policy, Federal Vehicle Policy Division (MTV), Washington, DC 20405, Telephone Number: 202-501-1777, E-mail Address: vehicle.policy@gsa.gov.

Dated: February 25, 2002.
G. Martin Wagner,
Associate Administrator, Office of Governmentwide Policy.

Attachment A—Cellular Phone Safe Driving Tips

Safe driving is your first priority. Always buckle up, keep your hands on the wheel and your eyes on the road.

Make sure that your phone is positioned where it is easy to see and easy to reach. Be familiar with the operation of your phone, so that you're comfortable using it on the road.

Use a hands-free microphone while driving. Make sure your phone is dealer-installed to get the best possible sound quality.

Use the speed dialing feature to program in frequently called numbers. Then you can make a call by touching only two or three buttons. Most phones will store up to 99 numbers.

When dialing manually without the speed dialing feature, dial only when stopped. If you can't stop, or pull over, dial a few digits, then survey traffic before completing the call. (Better yet, have a passenger dial.)

Never take notes while driving. Pull off the road to jot something down; if it's a phone number, many mobile phones have an electronic scratchpad that allows you to key in a new number while having a conversation.

Let your wireless network's voice mail pick up your calls when it's inconvenient or unsafe to answer the car phone. You can even use your voice mail to leave yourself reminders.

Be a cellular Samaritan. Dialing 9-1-1 is a free call for cellular subscribers; use it to report crimes in progress or other potential life-threatening emergencies, accidents or drunk driving.

Source: Department of Transportation, National Highway Traffic Safety Administration: An Investigation of the Safety Implications of Wireless Communications in Vehicles November 1997.

[FR Doc. 02-4880 Filed 2-28-02; 8:45 am]

BILLING CODE 6820-14-P